DEPARTMENT OF THE INTERIOR

National Park Service

[NPS-NER-HPPC-10888; 4320-pplb-318]

Final Environmental Impact Statement for the Susquehanna to Roseland 500-kilovolt Transmission Line, Appalachian National Scenic Trail; Delaware Water Gap National Recreation Area and Middle Delaware National Scenic and Recreational River

AGENCY: National Park Service, Interior.

ACTION: Notice of Availability.

SUMMARY: Pursuant to Section 102(2)(C) of the National Environmental Policy Act of 1969 and the Council on Environmental Quality regulations, the National Park Service (NPS) has prepared a Final Environmental Impact Statement (Final EIS) for the permit for the Susquehanna to Roseland 500-kilovolt (kV) transmission line to pass through three units of the National Park System: The Appalachian National Scenic Trail, Delaware Water Gap National Recreation Area, and Middle Delaware National Scenic and Recreational River. This Final EIS describes and analyzes six alternatives for the transmission line that will guide the decision to grant or deny the construction and Right-of-Way (ROW) permits requested by the applicants.

SUPPLEMENTARY INFORMATION: The Appalachian National Scenic Trail, Delaware Water Gap National Recreation Area, and the Middle Delaware National Scenic and Recreational River are famed for the recreational, scenic, natural, and cultural resources they contain. Each year, Delaware Water Gap National Recreation Area receives 5.2 million recreational visitors, and the Delaware River is one of the primary recreational attractions in the park. Approximately 27 miles of the Appalachian National Scenic Trail occur within the boundaries of Delaware Water Gap National Recreation Area; the Appalachian National Scenic Trail attracts 4 million visitors each year.

The existing transmission line ROW predates the establishment of the Appalachian National Scenic Trail in 1937, Delaware Water Gap National Recreation Area in 1965, and the Middle Delaware National Scenic and Recreational River in 1978. The applicants, PPL Electric Utilities Corporation and the Public Service Electric and Gas Company, request NPS permission to expand the size of the current ROW, access the ROW through existing natural and cultural areas, construct new and taller power line towers, and remove and replace the existing 230-kV Bushkill-to-Kittatinny (B-K) Line with a new double-circuit 500-kV transmission line (the S-R line). The purpose of the Final EIS is to respond to the applicants' need in light of the purposes and resources of the affected units of the National Park System, as expressed in statutes, regulations, and policies.

The NPS has developed the Final EIS under section 102(2)(C) of the National Environmental Policy Act of 1969 (as amended), and consistent with NPS laws, regulations, and policies, and the purposes of these three parks. The Final EIS describes and analyzes six alternatives (1, 2, 2b, 3, 4, and 5). The applicants have proposed construction of a 500-kV transmission line from the Susquehanna Substation (Berwick, Pennsylvania) to the Roseland Substation (Roseland, New Jersey). The construction and ROW permits would allow the construction through Delaware Water Gap National Recreation Area, Middle Delaware National Scenic and Recreational River, and Appalachian National Scenic Trail in Pennsylvania and New Jersey. The alternatives follow existing ROWs to reduce the impacts from construction and operation of the transmission line.

Under Alternative 1 (no action), the permit to allow construction of the applicant's proposal would be denied and current conditions would be presumed to continue. Alternative 2 (applicant's proposed route) would cross approximately 4.3 miles of NPS lands along the existing B-K Line corridor and require the cleared ROW to be expanded to 350 feet wide. Alternative 2b (applicant's alternate route) would follow the same route as Alternative 2, but would be constructed within the applicant's existing deeded ROW without expansion. Alternative 3 would cross approximately 5.4 miles of NPS lands along a different existing transmission line corridor and would require a ROW 350 feet in width. Alternative 4 would cross approximately 1.5 miles of NPS lands along another existing transmission line corridor and would require a ROW 350 feet in width. This alternative would not cross the Middle Delaware National Scenic and Recreational River. Alternative 5 would follow the same route as Alternative 4, but would not include a 0.6-mile stretch of NPS land west of the Bushkill substation. Alternative 2 is the NPS preferred alternative and Alternative 1 is the environmentally preferable alternative.

The Final EIS analyzes the impacts of the alternatives in detail for geologic resources (including topography and paleontology), flood plains, wetlands, vegetation, landscape connectivity, wildlife habitat and wildlife, special-status species, rare and unique communities, archeological resources, historic structures, cultural landscapes, socioeconomics, infrastructure, access and circulation, visitor use and experience, visual resources, soundscapes, wild and scenic rivers, park operations, and health and safety.

The Draft EIS was released in November 2011 and was available for public and agency review and comment beginning with publication of the Notice of Availability in the Federal Register. Comments were accepted during the 60-day public comment period. After this public review, NPS identified the preferred alternative and revised this document in response to public comments.

The Final EIS is now available. Interested persons and organizations may obtain the Final EIS online at http://parkplanning.nps.gov/dewa. A 30-day no-action period will follow this Notice of Availability in the Federal Register. After this period, the alternative or actions constituting the approved plan will be documented in a Record of Decision that will be signed by the Regional Director of the Northeast Region of the NPS. Notice of approval of the EIS would be published similarly.

Dated: August 15, 2012.
Dennis R. Reidenbach,
Regional Director, Northeast Region, National Park Service.

[FR Doc. 2012-20697 Filed 8-30-12; 8:45 am]

BILLING CODE 4312-JG-P